DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of two individuals and five entities that have been placed on OFAC's Specially Designated Nationals and Blocked Persons List based on OFAC's determination that one or more applicable legal criteria were satisfied. All property and interests in property subject to U.S. jurisdiction of these individuals and entities are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The Specially Designated Nationals and Blocked Persons List and additional information concerning OFAC sanctions programs are available on OFAC's website (https://ofac.treasury.gov/).

Notice of OFAC Action

On March 5, 2024, OFAC determined that the property and interests in property subject to U.S. jurisdiction of the following individuals and entities are blocked under the relevant sanctions authorities listed below.

Individuals and Entities

1. DILIAN, Tal Jonathan (a.k.a. MENASHE, Tal Yonatan), 11B Route Des Arcys, Champery 1874, Switzerland; DOB 21 Aug 1961; POB Israel; nationality Israel; citizen Israel; alt. citizen Malta; Gender Male; Passport 22540627 (Israel); National ID No. 57053795 (Israel); alt. National ID No. 057053795 (Israel) (individual) [CYBER2].

Designated pursuant to section l(a)(ii) of Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR, 2016 Comp., p. 659 (E.O. 13694, as amended) for being responsible for or complicit in, or having engaged in, directly or indirectly, an activity described in section 1(a)(ii)(D) of E.O. 13694, as amended.

2. HAMOU, Sara Aleksandra Fayssal (a.k.a. HAMOU, Sara Aleksandra; a.k.a. HAMOU-HEMSI, Sara), 19 Psaron Agios Tychonas, Limassol 4521, Cyprus; DOB 27 Jun 1984; nationality Poland; Gender Female; Passport EK5529085 (Poland) (individual) [CYBER2].

Designated pursuant to section l(a)(ii) of E.O. 13694, as amended, for being responsible for or complicit in, or having engaged in, directly or indirectly, an activity described in section 1(a)(ii)(D) of E.O. 13694, as amended.

3. INTELLEXA S.A. (a.k.a. INTELLEXA ANONYMI ETAIREIA), Vouliagmenis Avenue & 14 Hatzievaggelou, Elliniko 16777, Greece; Leof Vouliagmenis 47, Elliniko 16777, Greece; Irodou Attikou Streeet 7, Athens, Greece; Karaoli Dimitriou 1 & Vasiliss 1, 15231, Athens, Greece; Organization Established Date 11 Mar 2020; Organization Type: Other information technology and computer service activities; Tax ID No. 801326153 (Greece); Chamber of Commerce Number 154460701000 (Greece) [CYBER2].

Designated pursuant to section l(a)(ii) of E.O. 13694, as amended, for being responsible for or complicit in, or having engaged in, directly or indirectly, an activity described in section 1(a)(ii)(D) of E.O. 13694, as amended.

4. INTELLEXA LIMITED (a.k.a. INTELLEXA LTD.), 3rd Floor Ulysses House, Foley Street, Dublin 1, Dublin D01W2T2, Ireland; Organization Established Date 30 Jan 2020; Organization Type: Other information technology and computer service activities; Company Number 665443 (Ireland) [CYBER2].

Designated pursuant to section l(a)(ii) of E.O. 13694, as amended, for being responsible for or complicit in, or having engaged in, directly or indirectly, an activity described in section 1(a)(ii)(D) of E.O. 13694, as amended.

5. CYTROX AD (a.k.a. SYTROX), October 20, no. 1/1-1, Karpos, Skopje, North Macedonia, The Republic of; Metropolitan Theodosij Gologanov 44, Karpos, Skopje, North Macedonia, The Republic of; Organization Established Date 2017; Organization Type: Other information technology and computer service activities [CYBER2].

Designated pursuant to section l(a)(ii) of E.O. 13694, as amended, for being responsible for or complicit in, or having engaged in, directly or indirectly, an activity described in section 1(a)(ii)(D) of E.O. 13694, as amended.

6. CYTROX HOLDINGS ZARTKORUEN MUKODO RESZVENYTARSASAG (a.k.a. CYTROX HOLDINGS ZRT.), Deak Ferenc Ter 3., Budapest 1052, Hungary; website www.cytrox.com; Organization Established Date 16 Jun 2017; Organization Type: Other information technology and computer service activities; V.A.T. Number 25986792241 (Hungary); Registration Number 0110049372 (Hungary) [CYBER2].

Designated pursuant to section l(a)(ii) of E.O. 13694, as amended, for being responsible for or complicit in, or having engaged in, directly or indirectly, an activity described in section 1(a)(ii)(D) of E.O. 13694, as amended.

7. THALESTRIS LIMITED, 3rd Floor Ulysses House, Foley Street, Dublin 1, Dublin D01 W2T2, Ireland; Organization Established Date 28 Nov 2019; Organization Type: Activities of holding companies; Tax ID No. 661545 (Ireland) [CYBER2].

Designated pursuant to section l(a)(ii) of E.O. 13694, as amended, for being responsible for or complicit in, or having engaged in, directly or indirectly, an activity described in section 1(a)(ii)(D) of E.O. 13694, as amended.

Dated: March 5, 2024.
Bradley T. Smith,
Director, Office of Foreign Assets Control, U.S. Department of the Treasury.

[FR Doc. 2024-05045 Filed 3-8-24; 8:45 am]

BILLING CODE 4810-AL-P